OFFICE OF MANAGEMENT AND BUDGET

Circular A-4, Regulatory Analysis

AGENCY: Office of Management and Budget, Executive Office of the President.

ACTION: Notice.

SUMMARY: OMB announces the issuance of Circular A-4, Regulatory Analysis. This Circular provides the Office of Management and Budget's (OMB's) guidance to Federal agencies on the development of regulatory analysis as required under Section 6(a)(3)(c) of Executive Order 12866, “Regulatory Planning and Review,” the Regulatory Right-to-Know Act, and a variety of related authorities. The Circular also provides guidance to agencies on the regulatory accounting statements that are required under the Regulatory Right-to-Know Act. The new Circular can be accessed through the OMB Web site (http://www.whitehouse.gov/omb/circulars/index.html).

This Circular refines OMB's “best practices” document of 1996 (http://www.whitehouse.gov/omb/inforeg/riaguide.html), which was issued as a guidance in 2000 (http://www.whitehouse.gov/omb/memoranda/m00-08.pdf), and reaffirmed in 2001 (http://www.whitehouse.gov/omb/memoranda/m01-23.html). It replaces both the 1996 “best practices” and the 2000 guidance.

The effective date of this Circular is January 1, 2004 for regulatory analyses received by OMB in support of proposed rules, and January 1, 2005 for regulatory analyses received by OMB in support of final rules. In other words, this Circular applies to the regulatory analyses for draft proposed rules that are formally submitted to OIRA after December 31, 2003, and for draft final rules that are formally submitted to OIRA after December 31, 2004. (However, if the draft proposed rule is subject to the Circular, then the draft final rule will also be subject to the Circular, even if it is submitted prior to January 1, 2005.) To the extent practicable, agencies should comply earlier than these effective dates. Agencies may, on a case-by-case basis, seek a waiver from OMB if these effective dates are impractical.

A draft of this Circular was developed by OMB and the Council of Economic Advisors (CEA). The draft was subject to public comment, external peer review, and interagency review.

FOR FURTHER INFORMATION CONTACT: Keith Belton, Office of Information and Regulatory Affairs, Office of Management and Budget, 725 17th Street, NW., New Executive Office Building, Room 10201, Washington, DC 20503 (tel. (202) 395-4815).

John D. Graham,
Administrator, Office of Information and Regulatory Affairs.

[FR Doc. 03-25606 Filed 10-8-03; 8:45 am]

BILLING CODE 3110-01-P